DEPARTMENT OF HEALTH AND HUMAN SERVICES

National Institutes of Health

National Institute of Mental Health; Amended Notice of Meeting

Notice is hereby given of a change in the meeting of the National Institute of Mental Health Special Emphasis Panel, July 11, 2002, 11:30 a.m. to July 11, 2002, 12:45 p.m., Neuroscience Center, National Institutes of Health, 6001 Executive Blvd., Bethesda, MD, 20892 which was published in the Federal Register on July 1, 2002, 67 FR 44222-23.

The meeting will be held on August 1, 2002, from 10:30 a.m. to noon, at the Neuroscience Center as a telephone review. The meeting is closed to the public.

Dated: July 12, 2002.
LaVerne Y. Stringfield,
Director, Office of Federal Advisory Committee Policy.

[FR Doc. 02-18134 Filed 7-17-02; 8:45 am]

BILLING CODE 4140-01-M